Title 3—

The President

Order of February 12, 2018

Sequestration Order for Fiscal Year 2019 Pursuant to Section 251A of the Balanced Budget and Emergency Deficit Control Act, as Amended

By the authority vested in me as President by the laws of the United States of America, and in accordance with section 251A of the Balanced Budget and Emergency Deficit Control Act (the “Act”), as amended, 2 U.S.C. 901a, I hereby order that, on October 1, 2018, direct spending budgetary resources for fiscal year 2019 in each non-exempt budget account be reduced by the amount calculated by the Office of Management and Budget in its report to the Congress of February 12, 2018.

All sequestrations shall be made in strict accordance with the requirements of section 251A of the Act and the specifications of the Office of Management and Budget's report of February 12, 2018, prepared pursuant to section 251A(9) of the Act.

THE WHITE HOUSE,

February 12, 2018.

[FR Doc. 2018-03271

Filed 2-14-18; 8:45 am]

Billing code 3295-F8-P